DEPARTMENT OF COMMERCE

Bureau of the Census

National Advisory Committee; Meetings

AGENCY: Bureau of the Census, Department of Commerce.

ACTION: Notice of public meeting.

SUMMARY: The Bureau of the Census (Census Bureau) is giving notice of a meeting of the National Advisory Committee on Racial, Ethnic and Other Populations (NAC). The NAC will address policy, research, and technical issues relating to a full range of Census Bureau programs and activities, including communications, decennial, demographic, economic, field operations, geographic, information technology, and statistics. The NAC will meet in a plenary session on November 3-4, 2016. Last minute changes to the schedule are possible, which could prevent us from giving advance public notice of schedule adjustments. Please visit the Census Advisory Committees Web site for the most current meeting agenda at: http://www.census.gov/about/cac.html. The meeting will be available via webcast at: http://www.census.gov/newsroom/census-live.html or at http://www.ustream.tv/embed/6504322?wmode=direct.

DATES: November 3-4, 2016. On November 3, the meeting will begin at approximately 8:30 a.m. and end at approximately 5:00 p.m. On November 4, the meeting will begin at approximately 8:30 a.m. and end at approximately 4:00 p.m.

ADDRESSES: The meeting will be held at the U.S. Census Bureau Auditorium, 4600 Silver Hill Road, Suitland, Maryland 20746.

FOR FURTHER INFORMATION CONTACT: Tara Dunlop Jackson, Branch Chief for Advisory Committees, Customer Liaison and Marketing Services Office, at tara.t.dunlop@census.gov, Department of Commerce, U.S. Census Bureau, Room 8H177, 4600 Silver Hill Road, Washington, DC 20233, telephone 301-763-5222. For TTY callers, please use the Federal Relay Service 1-800-877-8339.

SUPPLEMENTARY INFORMATION: The NAC was established in March 2012 and operates in accordance with the Federal Advisory Committee Act (Title 5, United States Code, Appendix 2, Section 10). The NAC members are appointed by the Director, U.S. Census Bureau, and consider topics such as hard to reach populations, race and ethnicity, language, aging populations, American Indian and Alaska Native tribal considerations, new immigrant populations, populations affected by natural disasters, highly mobile and migrant populations, complex households, rural populations, and population segments with limited access to technology. The Committee also advises on data privacy and confidentiality, among other issues.

All meetings are open to the public. A brief period will be set aside at the meeting for public comment on November 4. However, individuals with extensive questions or statements must submit them in writing to: census.national.advisory.committee@census.gov (subject line “November 2016 NAC Meeting Public Comment”), or by letter submission to Kimberly L. Leonard, Committee Liaison Officer, Department of Commerce, U.S. Census Bureau, Room 8H179, 4600 Silver Hill Road, Washington, DC 20233.

If you plan to attend the meeting, please register by Monday, October 31, 2016. You may access the online registration from the following link: http://www.regonline.com/nov2016_nac_meeting. Seating is available to the public on a first-come, first-served basis.

This meeting is physically accessible to people with disabilities. Requests for sign language interpretation or other auxiliary aids should also be directed to the Committee Liaison Officer as soon as known, and preferably two weeks prior to the meeting.

Due to increased security and for access to the meeting, please call 301-763-9906 upon arrival at the Census Bureau on the day of the meeting. A photo ID must be presented in order to receive your visitor's badge. Visitors are not allowed beyond the first floor.

Topics of discussion include the following items:

• 2020 Census Program Updates

• Evidence Based Policy Making Commission Overview

• Language Working Group Progress Report

• Integrated Partnership and Communications Working Group Report

Dated: September 22, 2016.
John H. Thompson,
Director, Bureau of the Census.

[FR Doc. 2016-23670 Filed 9-29-16; 8:45 am]

BILLING CODE 3510-07-P